DEPARTMENT OF THE INTERIOR

National Park Service

30 Day Notice of Intention To Request Clearance of Collection of Information; Opportunity for Public Comment

AGENCY: National Park Service, Department of the Interior.

ACTION: Notice and request for comments.

SUMMARY: Under the provisions of the Paperwork Reduction Act of 1995 (Pub. L. 104-13, 44 U.S.C., Chapter 3507) and 5 CFR part 1320, Reporting and Recordkeeping Requirements, the National Park Service invites public comments on a submitted request to the Office of Management and Budget (OMB) to approve an extension of a currently approved collection OMB #1024-0018). Comments are invited on: (1) The need for information including whether the information has practical utility; (2) the accuracy of the reporting burden estimate; (3) ways to enhance the quality, utility, and clarity of the information to be collected; and (4) ways to minimize the burden of information collection on respondents, including the use of automated collection techniques or other forms of information technology.

The primary purpose of the ICR is to nominate properties for listing in the National Register of Historic Places, the official list of the Nation's cultural resources worthy of preservation, which public law requires that the Secretary of the Interior maintain and expand. Properties are listed in the National Register upon nomination by State Historic Preservation Officers and Federal Preservation Officers. Law also requires Federal agencies to request determinations of eligibility for property under their jurisdiction affected by their programs and projects. The forms provide the historic documentation on which decisions for listing and eligibility are based.

DATES: Public comments will be accepted on or before March 4, 2005.

ADDRESSES: You may submit comments directly to the Desk Officer for the Department of the Interior (OMB #1024-0018), Office of Information and Regulatory Affairs, OMB, by fax at (202) 395-6566, or by electronic mail at oira_docket@omb.eop.gov. Please also mail or hand carry a copy of your comments to Carol Shull, Keeper of the National Register, National Park Services, 1849 C Street, NW., #2280, Washington, DC 20240. All comments will be a matter of public record.

SUPPLEMENTARY INFORMATION: Title: 36 CFR 60 and 63, National Register of Historic Places Registration Form, Continuation Sheet, Multiple Property Documentation Form.

Form: NPS 10-900, -a, -b.

OMB Control Number: 1024-0018.

Type of Request: Extension of a currently approved collection.

Expiration Date: 1/31/2005.

Description of Need: The National Historic Preservation Act requires the Secretary of the Interior to maintain and expend the National Register of Historic Places, and to establish criteria and guidelines for including properties in the National Register. The National Register of Historic Places Registration Form documents properties nominated for listing in the National Register and demonstrates that they meet the criteria established for inclusion. The documentation is used to assist in preserving and protecting the properties and for heritage education and interpretation. National Register Properties must be considered in the planning for Federal or federally assisted projects. National Register listing is required for eligibility for the Federal rehabilitation tax incentives.

Description of Respondents: The affected public are State, tribal, and local governments, Federal agencies, business, non-profit organizations, and individuals. Nominations to the National Register of Historic Places are voluntary.

Estimated Annual Reporting Burden: 56,700 hours.

Estimated Average Burden Hours Per Response: 36 hours.

Estimated Average Number of Respondents: 1,575.

Estimated Frequency of Response: 1,575 annually.

Dated: January 25, 2005.
Leonard E. Stowe,
NPS Information Collection Clearance Officer.

[FR Doc. 05-1876 Filed 2-1-05; 8:45 am]

BILLING CODE 4312-51-M